FEDERAL COMMUNICATIONS COMMISSION

47 CFR Parts 1 and 4

[GN Docket No. 15-206; Report No. 3052]

Petitions for Reconsideration and Clarification of Action in Rulemaking Proceeding

AGENCY: Federal Communications Commission.

ACTION: Petitions for reconsideration and clarification.

SUMMARY: Petitions for Reconsideration and Clarification (Petitions) have been filed in the Commission's rulemaking proceeding by Andrew D. Lipman, on behalf of Submarine Cable Coalition, and Kent D. Bressie, on behalf of North American Submarine Cable Association.

DATES: Oppositions to the Petition must be filed on or before November 15, 2016. Replies to an opposition must be filed on or before November 25, 2016.

ADDRESSES: Federal Communications Commission, 445 12th Street SW., Washington, DC 20554.

FOR FURTHER INFORMATION CONTACT: Peter Shroyer, Public Safety and Homeland Security Bureau, email: peter.shroyer@fcc.gov; phone: (202) 418-1575.

SUPPLEMENTARY INFORMATION: This is a summary of the Commission's document, Report No. 3052, released October 12, 2016. The full text of the Petitions is available for viewing and copying at the FCC Reference Information Center, 445 12th Street SW., Room CY-A257, Washington, DC 20554 or may be accessed online via the Commission's Electronic Comment Filing System at http://apps.fcc.gov/ecfs/. The Commission will not send a copy of this Notice pursuant to the Congressional Review Act, 5 U.S.C. 801(a)(1)(A), because this Notice does not have an impact on any rules of particular applicability.

Subject: Improving Outage Reporting for Submarine Cables and Enhanced Submarine Cable Outage Data; NORS; FCC 16-81, published at 81 FR 52354, August 8, 2016 in GN 15-206. This Notice is being published pursuant to 47 CFR 1.429(e). See also 47 CFR 1.4(b)(1) and 1.429(f), (g).

Number of Petitions Filed: 2.

Federal Communications Commission.
Marlene H. Dortch,
Secretary.

[FR Doc. 2016-26198 Filed 10-28-16; 8:45 am]

BILLING CODE 6712-01-P